DEPARTMENT OF HEALTH AND HUMAN SERVICES

Centers for Disease Control and Prevention

Cooperative Agreement To Build Local Capacity To Respond to the HIV/AIDS Epidemic in the Caribbean, as Part of the President's Emergency Plan for AIDS Relief

Announcement Type: New.

Funding Opportunity Number: CDC-RFA-AA157.

Catalog of Federal Domestic Assistance Number: 93.067.

Key Dates: Application Deadline: September 19, 2005.

I. Funding Opportunity Description

Authority: This program is authorized under sections 301 and 307 of the Public Health Service Act [42 U.S.C. 24l and 2421, as amended, and under Public Law 108-25 (United States Leadership Against HIV/AIDS, Tuberculosis and Malaria Act of 2003) [22 U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

With an average adult HIV prevalence of 2.3 percent, the Caribbean is the second-most affected region in the world, according to the 2004 Annual Report from the Joint United Nations Programme on HIV and AIDS (UNAIDS). Overall, the highest HIV-infection levels among women in the Americas are in Caribbean countries, and AIDS has become the leading cause of death in the Caribbean among adults aged 15-44 years (Caribbean Epidemiology Centre, Pan-American Health Organization (PAHO), World Health Organization (WHO), 2004). A regional response to HIV/AIDS is necessary in the Caribbean because of population mobility, the limited response capacity of individual countries, and the need for a multisectoral, collaborative strategy (A Study of the Pan Caribbean Partnership Against HIV/AIDS 2004).

Purpose: The purpose of this funding announcement is to build progressively an indigenous, sustainable response to regional HIV epidemic in the Caribbean through the rapid expansion of innovative, culturally appropriate, high-quality HIV/AIDS prevention and care interventions, and improved linkages to confidential HIV counseling and testing and HIV treatment services by targeting rural and other underserved populations in the West Indies.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

Measurable outcomes of the program will be in alignment with the numerical goals of the President's Emergency Plan for AIDS Relief and one (or more) of the performance goal(s) for the HHS/CDC National Center for HIV, Sexually Transmitted Disease and Tuberculosis Prevention (NCHSTP) within HHS: Increase the proportion of HIV-infected people who are linked to appropriate prevention, care and treatment services; strengthen the capacity nationwide to monitor the epidemic; develop and implement effective HIV prevention interventions; and evaluate prevention programs.

This announcement is only for non-research activities supported by HHS, including CDC. If an applicant proposes research activities, HHS will not review the application. For the definition of “research”, please see the HHS/CDC web site at the following Internet address: http://www.cdc.gov/od/ads/opspoll1.htm.

Activities: The recipient of these funds is responsible for activities in multiple program areas designed to target underserved populations in the Caribbean. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in the Caribbean will review. The grantee may work on some of the activities listed below in the first year and in subsequent years, and then progressively add others from the list to achieve all of the Emergency Plan performance goals, as cited in the previous section.

Based on its competitive advantage and proven field experience, the winning applicant will undertake a broad range of activities to meet the numerical Emergency Plan targets outlined above. For each of these activities, the grantee will give priority to evidence-based, yet culturally adapted, innovative approaches.

Capacity-building technical assistance activities covered under this cooperative agreement are limited to the following:

1. Strengthen organizational infrastructure of HIV prevention, care and treatment programs located within the Caribbean Region.

a. Provide technical assistance in the management of HIV prevention, care and treatment programs. Examples include, but are not limited to the following: (1) Organizational assessments to determine the needs, resources, readiness and gaps of organizational infrastructure systems (e.g., governance, management, administration, personnel, and fiscal); (2) proposal development and grant writing; (3) resource development, including development of reimbursement mechanisms, identification of other funding sources and development of public/private partnership strategies; (4) management information systems (data management); (5) strategic planning; (6) leadership development; (7) team building; (8) human resources management, including staff and volunteer recruitment, management, retention and training; (9) organizational quality-assurance and monitoring; (10) program marketing and public relations; and (11) cross-cultural communications.

b. Plan and conduct site visits, study tours, conferences and/or meetings for member country health officials.

c. Provide technical assistance and training in strategic planning, training of trainers, and manual development and dissemination.

d. Provide organizational development of Secretariat Staff and Executive Board to respond to the needs of the organization. Examples include, but are not limited to: (1) Training; (2) skill building in management; (3) increasing human capacity and infrastructure; (4) expanding sources of funding, and securing multi-year funding; and (5) development of overall governance documents, including defining roles and responsibilities of members, Secretariat Staff, and Executive Board.

2. Strengthen HIV prevention, care and treatment programs located within the Caribbean Region.

a. Provide technical assistance in the design, implementation, and management of prevention, care and treatment programs.

b. Develop and disseminate resource toolkits for National AIDS Programs in the Caribbean Region that programs can use to assist in planning, implementation and evaluation of programs.

c. Translate existing resource materials for use in HHS/CDC GAP Caribbean Regional countries and territories.

d. Establish peer-to-peer technical assistance networks from AIDS programs to AIDS programs (by optimizing cultural similarities and common language), including the continuation of technical exchange in the Caribbean Regional countries and territories; development of a mentoring program; and twinning relationships with the United States (especially in communities of the Caribbean diaspora) and other international AIDS programs.

e. Identify and share technical best practices (U.S. and international), new research and HIV treatment regimens.

f. Increase communication via phone, the web and regular mail, including translation and interpretation into the four working languages of the countries and territories located within the Caribbean Region.

g. Facilitate program management workshops to include, but not limited to, general program management, resource mobilization, monitoring and evaluation, migration and mobility, and policy development.

3. Strengthen policy development for HIV prevention, care and treatment programs located within the Caribbean Region.

a. Develop issue briefs and organizational policy papers, including but not limited to: Stigma and discrimination; technical assistance; and migration and mobility, translated into the four working languages of the Caribbean Region.

b. Complete regional reviews of the status and trends regarding HIV-related stigma and discrimination; develop a matrix of all regional programs and policies for combating stigma and discrimination; and increase member's abilities to serve as local resources for the mitigation of stigma and discrimination in their respective countries or territories.

c. Increase the knowledge base for existing HIV-related policies through the completion of databases on existing regional HIV/AIDS policies and programs, and skill building of public health officials to participate in the development of country-relevant policies.

Administration: The winning applicant must comply with all HHS management requirements for meeting participation and progress and financial reporting for this cooperative agreement. (See HHS Activities and Reporting sections below for details), and comply with all policy directives established by the Office of the U.S. Global AIDS Coordinator.

In a cooperative agreement, HHS staff is substantially involved in the program activities, above and beyond routine grant monitoring.

HHS/CDC activities for this program are as follows:

1. Provide policy and program information for rapid dissemination and implementation.

2. Provide technical advice in the development of systems to implement HHS/CDC policies and programs.

3. Provide consultation and scientific and technical assistance in planning, operating, analyzing and evaluating HIV prevention, care and treatment programs and program-evaluation activities.

4. Disseminate current information, including best practices, in all areas of HIV prevention, care and treatment.

5. Monitor progress in achieving the purpose of this program, as well as project objectives.

6. Assist in assessing internal program operations, and in evaluating overall effectiveness of programs.

7. Organize an orientation meeting with the grantee to brief it on applicable U.S. Government, HHS, and Emergency Plan expectations, regulations and key management requirements, as well as report formats and contents. The orientation could include meetings with staff from HHS agencies and the Office of the U.S. Global AIDS Coordinator.

8. Review and approve the process used by the grantee to select key personnel and/or post-award subcontractors and/or subgrantees to be involved in the activities performed under this agreement.

9. Review and approve grantee's annual work plan and detailed budget.

10. Review and approve grantee's monitoring and evaluation plan, including for compliance with the strategic information guidance established by the Office of the U.S. Global AIDS Coordinator.

11. Meet on a monthly basis with grantee to assess monthly expenditures in relation to approved work plan and modify plans as necessary.

12. Meet on a quarterly basis with grantee to assess quarterly technical and financial progress reports and modify plans as necessary.

13. Meet on an annual basis with grantee to review annual progress report for each U.S. Government Fiscal Year, and to review annual work plans and budgets for subsequent year.

14. Provide technical assistance, as mutually agreed upon, and revise annually during validation of the first and subsequent annual work plans. This could include expert technical assistance and targeted training activities in specialized areas, such as strategic information, project management, confidential counseling and testing, palliative care, treatment literacy, and adult learning techniques.

15. Provide in-country administrative support to help grantee meet U.S. Government financial and reporting requirements.

Please note: Either HHS staff or staff from organizations that have successfully competed for funding under a separate HHS contract, cooperative agreement or grant will provide technical assistance and training.

II. Award Information

Type of Award: Cooperative Agreement. (HHS involvement in this program is listed in the Activities Section above.)

Fiscal Year Funds: 2005.

Approximate Total Funding: $150,000. (This amount is an estimate, and is subject to availability of funds.)

Approximate Number of Awards: One.

Approximate Average Award: $150,000. (This amount is for the first 12-month budget period, and includes direct costs.)

Floor of Award Range: $100,000.

Ceiling of Award Range: $150,000. (This amount is for the first 12-month budget period.)

Anticipated Award Date: September 23, 2005.

Budget Period Length: 12 months.

Project Period Length: Five years.

Throughout the project period, HHS' commitment to continuation of awards will be conditioned on the availability of funds, evidence of satisfactory progress by the recipient (as documented in required reports), and the determination that continued funding is in the best interest of the Federal Government.

III. Eligibility Information

III.1. Eligible Applicants

Applications may be submitted by:

• Public nonprofit organizations

• Private nonprofit organizations

• Universities

• Colleges

• For profit organizations

• Small, minority, women-owned businesses

• Community-based organizations

• Research institutions

• Hospitals

• Faith-based organizations

• Federally recognized Indian tribal governments

• Indian tribes

• Indian tribal organizations

• State and local governments or their Bona Fide Agents (this includes the District of Columbia, the Commonwealth of Puerto Rico, the Virgin Islands, the Commonwealth of the Northern Marianas Islands, American Samoa, Guam, the Federated States of Micronesia, the Republic of the Marshall Islands, and the Republic of Palau)

• Political subdivisions of States (in consultation with States)

Additionally, applicants must meet the criteria listed below:

• Have at least three years of documented HIV/AIDS related program implementation experience in the Caribbean Region.

• Have, in one organization, ability and experience in convening and working in an on-going manner with senior public sector HIV/AIDS program officers/coordinators from at least 15 Caribbean nations on technical areas of treatment, care and prevention.

• Have experience in partnership and collaboration with other regional HIV/AIDS organizations.

• Be a member of the Pan Caribbean AIDS Partnership (PANCAP).

III.2. Cost-Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Note: Title 2 of the United Sates Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit your application electronically by using the forms and instructions posted for this announcement at http://www.grants.gov.

Application forms and instructions are available on the HHS/CDC web site, at the following Internet address: http://www.cdc.gov/od/pgo/forminfo.htm.

If you do not have access to the Internet, or if you have difficulty accessing the forms on-line, you may contact the HHS/CDC Procurement and Grants Office Technical Information Management Section (PGO-TIM) at: 770-488-2700. We can mail application forms to you.

IV.2. Content and Form of Submission

Application: You must submit a project narrative with your application forms. You must submit the narrative in the following format:

• Maximum number of pages: Thirty-five (35). If your narrative exceeds the page limit, we will only review the first pages within the page limit.

• Font size: 12 point unreduced

• Paper size: 8.5 by 11 inches

• Page margin size: One inch

• Printed only on one side of page

• Double-spaced

• Numbered pages

• Held together only by rubber bands or metal clips; not bound in any other way.

• Application must be submitted in English

Your narrative should address activities to be conducted over the entire project period, and must thoroughly develop the program plan. The program plan will include a description of your program and strategy, objectives, activities, timelines, program experience, management plan and organization structure, and measures of effectiveness as follows:

• Program and Strategy

Provide a description of your proposed program and the strategy for implementation. Include a description of the administrative, financial, accounting and human resource models used to build the organizational infrastructure capacity e.g., grant writing, fiscal management, board and staff development). Also, include a description of the plan to support capacity building and technical assistance needs of the National AIDS Programs located within the Caribbean Region.

• Objectives

What are your objectives for addressing the general and focus area-specific activities?

• Activities

What are your proposed activities? These activities must relate to each of the objectives listed above.

• Timeline (e.g., GANNT Chart)

Provide a timeline and list staff responsible for implementing activities in the first year.

• Program Experience

Describe your organization's program experience as it relates to the proposed activities in this program announcement. Address the methods that you have used to provide similar services in the past. Also, include an explanation of how funds used in this cooperative agreement will be used differently, or in ways that will expand upon programs that are supported with existing or future funds. Address your organization's experience and capacity to provide technical assistance that responds effectively to the cultural and linguistic characteristics of your recipients. In answering this question, describe the types of services provided and list any culturally and linguistically appropriate curricula and materials that your organization has adapted or developed.

• Management Plan and Organizational Structure

Describe your management and staffing plan to conduct or support the essential components of this cooperative agreement, including a description of the roles, responsibilities and relationships of all staff supported through this cooperative agreement. (Organizational charts and resumes of all key staff to demonstrate their qualifications may be included in the appendices).

• Measures of Effectiveness

These must relate to the performance goals stated in the “Purpose” section of this announcement. Measures must be objective and quantitative, and must measure the intended outcome of this cooperative agreement.

• Budget and Budget Justification (Not included in page limit. Reviewed but not scored.) Include a detailed and justified budget required to accomplish the objectives for the first year of the project. Justify all operating expenses in relation to the planned activities and stated objectives. HHS/CDC may not fund or approve all proposed activities. Be precise about the program purpose of each budget item and itemize calculations wherever appropriate. Is the itemized budget for conducting the project, along with justification, reasonable, and consistent with stated objectives and planned program activities?

You may include additional information in the application appendices. The appendices will not count toward the narrative page limit. This additional information includes the following:

• Curriculum Vitas/Resumes of current staff who will work on the activity

• Organizational Charts

• A list of culturally and linguistically appropriate materials that are available, and are currently being delivered.

• A description of funding from other sources (international, regional, local, private, etc.) to conduct similar activities. This should include a summary of current funds received with the name of the sponsoring organization/source of income, level of funding, description of how funds have been used and budget period. Identify proposed personnel who will conduct and oversee the activities of this project, and all funding sources supporting these individuals (include their roles and responsibilities).

The budget justification will not count in the narrative page limit.

Although the narrative addresses activities for the entire project, the applicant should provide a detailed budget only for the first year of activities, while addressing budgetary plans for subsequent years.

You must have a Dun and Bradstreet Data Universal Numbering System (DUNS) number to apply for a grant or cooperative agreement from the Federal Government. The DUNS number is a nine-digit identification number, which uniquely identifies business entities. Obtaining a DUNS number is easy, and there is no charge. To obtain a DUNS number, access www.dunandbradstreet.com or call 1-866-705-5711.

For more information, see the HHS/CDC web site at: http://www.cdc.gov/od/pgo/funding/grantmain.pdf. If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 19, 2005.

Explanation of Deadlines: Applications must be received in the HHS/CDC Procurement and Grants Office by 4 p.m. Eastern Time on the deadline date.

You may submit your application electronically at www.grants.gov. We consider applications completed on-line through Grants.gov as formally submitted when the applicant organization's Authorizing Official electronically submits the application to www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the United States or to international organizations regardless of their location.

• The applicant may contract with other organizations under this program; however, the applicant must perform a substantial portion of the activities (including program management and operations, and delivery of prevention services for which funds are required).

• All requests for funds contained in the budget, shall be stated in U.S. dollars. Once an award is made, HHS/CDC will not compensate foreign grantees for currency exchange fluctuations through the issuance of supplemental awards.

• You must obtain annual audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• Funds received from this announcement will not be used for the purchase of antiretroviral drugs for treatment of established HIV infection (with the exception of nevirapine in Prevention of Mother-to-Child Transmission (PMTCT) cases and with prior written approval), occupational exposures, and non-occupational exposures and will not be used for the purchase of machines and reagents to conduct the necessary laboratory monitoring for patient care.

• Needle Exchange—No funds appropriated under this Act shall be used to carry out any program of distributing sterile needles or syringes for the hypodermic injection of any illegal drug.

Prostitution and Related Activities: The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all sub-agreements under this award. These provisions must be express terms and conditions of the sub-agreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, “Prostitution and Related Activities.”') addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC web site, at the following Internet address: http://www.cdc.gov/od/pgo/funding/budgetguide.htm.

IV.6. Other Submission Requirements

Application Submission Address: HHS/CDC strongly encourages you to submit applications electronically at www.grants.gov. You will be able to download the application package from www.grants.gov, complete it off-line, and then upload and submit the application via the Grants.gov site. We will not accept e-mail submissions. If you are having technical difficulties in Grants.gov, you may reach them by e-mail at support@grants.gov or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of the application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that you submit the grant application by using Microsoft Office products (e.g., Microsoft Word, Microsoft Excel, etc.). If you do not have access to Microsoft Office products, you may submit a PDF. You may find directions for creating PDF files on the Grants.gov web site. Use of file formats other than Microsoft Office or PDF could make your file unreadable for our staff.

OR

Submit the original and two hard copies of your application by mail or express delivery service to the following address: Technical Information Management—AA157, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Program Plan (40 Points)

a. Is the program and strategy based on sound reasoning or evidence? Does the applicant describe strategies that are pertinent and match those identified in the five-year strategy of the President's Emergency Plan and activities that are evidence-based, realistic, achievable, measurable and culturally appropriate in the Caribbean to achieving the goals of the Emergency Plan?

b. Are the proposed program objectives specific, measurable, achievable and time-phased?

c. What is the likelihood that the proposed program activities will accomplish the proposed program objectives and contribute to the numerical goals of the President's Emergency Plan for AIDS Relief in Haiti and Guyana?

d. Is the proposed timeline feasible?

2. Program Experience (20 Points)

Is the applicant's program experience relevant to the provision of the services they intend to provide? Does the staff involved have appropriate fluency and skill in local languages?

3. Organizational Capacity (20 Points)

Does the applicant demonstrate current organizational capacity to provide the interventions that they intend to provide?

4. Evaluation Monitoring Plan (20 Points)

Does the applicant propose a system for reviewing and adjusting program activities based on monitoring information? Does the applicant include indicators for each program milestone and incorporated into the financial and programmatic reports? Are all indicators drawn from the Emergency Plan Indicator Guide? Can the system generate financial and program reports to show disbursement of funds, and progress towards achieving the objectives of the Emergency Plan in Haiti and Guyana?

5. Budget and Budget Justification (Reviewed, but not scored)

Is the itemized budget for conducting the project, along with justification, reasonable, and consistent with the five-year strategy and goals of the President's Emergency Plan and Emergency Plan activities in the Caribbean?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

It is possible for one organization to apply as lead grantee with a plan that includes partnering with other organizations, preferably local. Although matching funds are not required, preference will be go to organizations that can leverage additional funds to contribute to program goals.

Applications will be funded in order by score and rank determined by the review panel. HHS/CDC will provide justification for any decision to fund out of rank order.

V.3. Anticipated Announcement and Award Dates

September 23, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-10 Smoke-Free Workplace Requirements

• AR-12 Lobbying Restrictions

Applicants can find additional information on these requirements on the HHS/CDC Web site at the following Internet address: http://www.cdc.gov/od/pgo/funding/ARs.htm.

You need to include an additional Certifications form from the PHS5161-1 application in your Grants.gov electronic submission only. Please refer to http://www.cdc.gov/od/pgo/funding/PHS5161-1-Certificates.pdf. Once you have filled out the form, please attach it to your Grants.gov submission as Other Attachment Forms.

VI.3. Reporting Requirements

You must provide HHS/CDC with an original, plus two hard copies of the following reports:

1. Interim progress report, due no less than 90 days before the end of the budget period. The progress report will serve as your non-competing continuation application, and must contain the following elements:

a. Current Budget Period Activities and Objectives.

b. Current Budget Period Financial Progress.

c. New Budget Period Program Proposed Activities and Objectives.

d. Budget and budget narrative with justification.

e. Measures of Effectiveness, including progress against the numerical goals of the President's Emergency Plan for AIDS Relief for the Caribbean.

f. Additional Requested Information.

2. Financial status report, no more than 90 days after the end of the budget period. The financial report must show obligations, disbursements and funds remaining by program activity. Indicators must be developed for each program milestone and incorporated into the periodic financial and programmatic reports. All indicators need to be drawn from The Emergency Plan Indicator Guide.

3. Annual Reports are due within no later than 90 days of the end of the budget period. The report should detail progress toward achieving program milestones and projected next year activities. Indicators must be developed for each program milestone and incorporated into the annual financial and programmatic reports. All indicators need to be drawn from the Emergency Plan. Reports should include progress against the numerical goals of the President's Emergency Plan for AIDS Relief for the Caribbean.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Ken Hunt, Project Officer, HHS Global AIDS Program, Caribbean Regional Office, U.S. Embassy, 15 Queens Park West, Port of Spain, Trinidad, WI, Telephone: 868-628-7325, E-mail: khunt@cdc.gov.

For financial, grants management, or budget assistance, contact: Vivian Walker, Grants Management Specialist CDC Procurement and Grants Office, U.S. Department of Health and Human Services, 2920 Brandywine Road, Atlanta, GA 30341, Telephone: 770-488-2724, E-mail: VWalker@cdc.gov.

VIII. Other Information

Applicants can find this and other HHS funding opportunity announcements on the HHS/CDC Web site, Internet address: http://www.cdc.gov (click on “Funding” then “Grants and Cooperative Agreements”), and on the Web site of the HHS Office of Global Health Affairs, Internet address: http://www.globalhealth.gov.

Dated: August 17, 2005.
William P. Nichols,
Director, Procurement and Grants Office, Centers for Disease Control and Prevention, U.S. Department of Health and Human Services.

[FR Doc. 05-16816 Filed 8-23-05; 8:45 am]

BILLING CODE 4163-18-P